DEPARTMENT OF ENERGY

Federal Energy Regulatory Commission

[Docket No. EC02-76-000, et al.]

Conectiv Bethlehem Inc. et al.; Electric Rate and Corporate Regulation Filings

June 19, 2002.

The following filings have been made with the Commission. The filings are listed in ascending order within each docket classification.

1. Conectiv Bethlehem Inc. and Conectiv Energy Holding Company,

[Docket No. EC02-76-000]

Take notice that on June 14, 2002, Conectiv Bethlehem, Inc. (CBI) and Conectiv Energy Holding Company (CEH) (collectively, Applicants) tendered for filing with the Federal Energy Regulatory Commission (Commission) pursuant to Section 203 of the Federal Power Act and Part 33 of the Commission's regulations, a request for authorization and approval to engage in an internal restructuring whereby CEH transfers to one of its wholly owned subsidiaries all of CEH's shareholder interest CBI.

Copies of the filing were served on the Delaware Public Service Commission.

Comment Date: July 8, 2002.

2. Cabazon Wind Partners, LLC, Cannon Power Corporation, and Shell WindEnergy Inc.

[Docket No. EC02-77-000]

Take notice that on June 17, 2002, Cabazon Wind Partners, LLC (Cabazon), Cannon Power Corporation (Cannon) and Shell WindEnergy Inc. (Shell WindEnergy) (collectively, the Applicants) filed with the Federal Energy Regulatory Commission (Commission), an application pursuant to Section 203 of the Federal Power Act for authorization of a disposition of jurisdictional facilities whereby Shell WindEnergy will acquire 100% of the membership interests in Cabazon. Cabazon is constructing a 41 MW wind power generating plant (Project) located in Riverside County, California (the Project).

Cabazon is currently wholly-owned by Cannon. Pursuant to an acquisition agreement, the Transaction would be consummated after the Project commences commercial operation, which is expected to occur by August 25, 2002. The Transaction is expected to result in the disposition of Commission jurisdictional facilities consisting of Cabazon's market-based rate tariff and minor interconnection facilities connecting the Project to the California grid. Applicants have requested privileged treatment for the Acquisition Agreement between Cannon and Shell WindEnergy.

Comment Date: July 8, 2002.

3. Pajaro Energy Center, LLC

[Docket No. EG02-154-000]

Take notice that on June 14, 2002, Pajaro Energy Center, LLC (Pajaro) filed with the Federal Energy Regulatory Commission (Commission) an application for determination of exempt wholesale generator status pursuant to Part 365 of the Commission's regulations.

Pajaro, a Delaware limited liability company, proposes to own and operate a nominally rated 45 MW natural gas-fired, simple cycle electric generating facility to be located in Monterey County, California. Pajaro intends to sell the output at wholesale to an affiliated marketer.

Comment Date: July 10, 2002.

4. Rhode Island State Energy Statutory

[Docket No. EG02-155-000]

Take notice that on June 14, 2002, Rhode Island State Energy Statutory Trust 200, c/o State Street Bank and Trust Company of Connecticut, National Association, c/o State Street Bank and Trust Company of Connecticut, National Association, c/o LaFayette, Boston, Massachusetts 02102, filed with the Federal Energy Regulatory Commission (Commission), an application for determination of exempt wholesale generator status pursuant to Part 365 of the Commission's regulations. The applicant is a Connecticut statutory trust that states it will engage directly or indirectly and exclusively in the business of owning and/or operating eligible facilities in the United States and selling electric energy at wholesale. The applicant proposes to own a 535 MW electric generating facility located near Johnston, Rhode Island, The applicant seeks a determination of its exempt wholesale generator status. All electric energy sold by the applicant will be sold exclusively at wholesale by leasing the facility.

Comment Date: July 10, 2002.

5. Boston Edison Company

[Docket No. ER02-170-002]

Take notice that on June 13, 2002, Boston Edison Company (Boston Edison) tendered for filing a new First Revised Rate Schedule FERC No. 167 in compliance with the directives of the Commission in its Order Denying Rehearing, issued on March 15, 2002, in Docket No. ER02-170-001 98 FERC ¶ 61,292 (2002).

Boston Edison requests that the new First Revised Rate Schedule FERC No. 167 become effective on June 1, 2002.

Comment Date: July 5, 2002.

6. Virginia Electric and Power Company

[Docket No. ER02-2083-000]

Take notice that Virginia Electric and Power Company (the Company) on June 13, 2002, respectfully tendered for filing the following Service Agreement by Virginia Electric and Power Company to PSEG Energy Resources & Trade LLC designated as Service Agreement No. 16 under the Company's Wholesale Market-Based Rate Tariff, FERC Electric Tariff, Original Volume No. 6, effective on June 15, 2000. The Company respectfully requests an effective date of May 14, 2002, as requested by the customer.

Copies of the filing were served upon PSEG Energy Resources & Trade LLC, the Virginia State Corporation Commission, and the North Carolina Utilities Commission.

Comment Date: July 5, 2002.

7. Ameren Energy, Inc. on behalf of Union Electric Company d/b/a AmerenUE and Ameren Energy Generating Company

[Docket No. ER02-2087-000]

Take notice that on June 13, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with American Electric Power Service Corporation.

Ameren Energy seeks Commission acceptance of these service agreements effective June 1, 2002. Copies of this filing were served on the public utilities commissions of Illinois and Missouri and the counterparty.

Comment Date: July 5, 2002.

8. Bonnie Mine Energy, LLC

[Docket No. ER02-2088-000]

Take notice that on June 13, 2002, Bonnie Mine Energy, LLC (Bonnie Mine) filed with the Federal Energy Regulatory Commission that FERC Electric Tariff, Original Volume No. 1 in Docket No. ER00-1502-000 on February 3, 2000 is to be cancelled.

Comment Date: July 5, 2002.

9. Dominion Energy Marketing, Inc.

[Docket No. ER02-2089-000]

Take notice that on June 13, 2002, Dominion Energy Marketing, Inc. (the Company) respectfully tendered for filing the following Service Agreement by Dominion Energy Marketing, Inc. to PSEG Energy Resources & Trade LLC designated as Service Agreement No 3 under the Company's Market-Based Sales Tariff, FERC Electric Tariff, Original Volume No. 1, effective on December 15, 2000.

The Company requests an effective date of May 14, 2002, as requested by the customer. Copies of the filing were served upon the PSEG Energy Resources & Trade LLC, the Virginia State Corporation Commission, and the North Carolina Utilities Commission.

Comment Date: July 5, 2002.

10. Duke Electric Transmission

[Docket No. ER02-2090-000]

Take notice that on June 13, 2002, Duke Electric Transmission (Duke) a division of Duke Energy Corporation, tendered for filing with the Federal Energy Regulatory Commission (Commission) a Service Agreement with Duke Energy Trading and Marketing, L.L.C., for Non-Firm Transmission Service under Duke's Open Access Transmission Tariff. Duke requests that the proposed Service Agreement be permitted to become effective on May 23, 2002. Duke states that this filing is in accordance with Part 35 of the Commission's regulations and that a copy has been served on the North Carolina Utilities Commission.

Comment Date: July 5, 2002.

11. Duke Electric Transmission

[Docket No. ER02-2091-000]

Take notice that on June 13, 2002, Duke Electric Transmission (Duke) a division of Duke Energy Corporation, tendered for filing with the Federal Energy Regulatory Commission (Commission) a Service Agreement with Dominion Energy Marketing, Inc., for Firm Transmission Service under Duke's Open Access Transmission Tariff. Duke requests that the proposed Service Agreement be permitted to become effective on May 24, 2002. Duke states that this filing is in accordance with Part 35 of the Commission's regulations and that a copy has been served on the North Carolina Utilities Commission.

Comment Date: July 5, 2002.

12. Duke Electric Transmission

[Docket No. ER02-2092-000]

Take notice that on June 13, 2002, Duke Electric Transmission (Duke) a division of Duke Energy Corporation, tendered for filing with the Federal Energy Regulatory Commission (Commission) a Service Agreement with Western Resources, Inc., dba Westar Energy, for Firm Transmission Service under Duke's Open Access Transmission Tariff. Duke requests that the proposed Service Agreement be permitted to become effective on May 23, 2002. Duke states that this filing is in accordance with Part 35 of the Commission's regulations and that a copy has been served on the North Carolina utilities Commission.

Comment Date: July 5, 2002.

13. Duke Electric Transmission

[Docket No. ER02-2093-000]

Take notice that on June 13, 2002, Duke Electric Transmission (Duke) a division of Duke Energy Corporation, tendered for filing with the Federal Energy Regulatory Commission (Commission) a Service Agreement with Dominion Energy Marketing, Inc., for Non-Firm Transmission Service under Duke's Open Access Transmission Tariff. Duke requests that the proposed Service Agreement be permitted to become effective on May 23, 2002. Duke states that this filing is in accordance with Part 35 of the Commission's regulations and that a copy has been served on the North Carolina utilities Commission.

Comment Date: July 5, 2002.

14. Duke Electric Transmission

[Docket No. ER02-2094-000]

Take notice that on June 13, 2002, Duke Electric Transmission (Duke) a division of Duke Energy Corporation, tendered for filing with the Federal Energy Regulatory Commission (Commission) a Service Agreement with Western Resources, Inc., dba Westar Energy, for Non-Firm Transmission Service under Duke's Open Access Transmission Tariff. Duke requests that the proposed Service Agreement be permitted to become effective on May 22, 2002. Duke states that this filing is in accordance with Part 35 of the Commission's regulations and that a copy has been served on the North Carolina utilities Commission.

Comment Date: July 5, 2002.

15. PJM Interconnection, L.L.C.

[Docket No. ER02-2095-000]

Take notice that on June 13, 2002, PJM Interconnection, L.L.C. (PJM) tendered for filing a revised page to the PJM Open Access Transmission Tariff to correct a subpart reference in Attachment M to such tariff.

Copies of this filing have been served on all PJM members and the state electric utility regulatory commissions in the PJM region.

Comment Date: July 5, 2002.

16. American Transmission Systems, Inc.

[Docket No. ER02-2096-000]

Take notice that on June 14, 2002, American Transmission Systems, Inc. filed a Service Agreement to provide Non-Firm Point-to-Point Transmission Service for NSP Energy Marketing, the Transmission Customer. Services are being provided under the American Transmission Systems, Inc. Open Access Transmission Tariff submitted for filing by the Federal Energy Regulatory Commission in Docket No. ER99-2647-000. The proposed effective date under the Service Agreement is June 13, 2002 for the above mentioned Service Agreement in this filing.

Comment Date: July 5, 2002.

17. American Transmission Systems, Inc.

[Docket No. ER02-2097-000]

Take notice that on June 14, 2002, American Transmission Systems, Inc. filed a Service Agreement to provide Firm Point-to-Point Transmission Service for NSP Energy Marketing, the Transmission Customer. Services are being provided under the American Transmission Systems, Inc. Open Access Transmission Tariff submitted for filing by the Federal Energy Regulatory Commission in Docket No. ER99-2647-000. The proposed effective date under the Service Agreement is June 13, 2002 for the above mentioned Service Agreement in this filing.

Comment Date: July 5, 2002.

18. Progress Energy Inc. On behalf of DeSoto County Generating Company, LLC.

[Docket No. ER02-2098-000]

Take notice that on June 14, 2002, DeSoto County Generating Company, LLC (DeSoto) tendered for filing an executed Service Agreement between DeSoto and the following eligible buyer, Florida Power & Light Company. Service to this eligible buyer will be in accordance with the terms and conditions of DeSoto's Cost-Based Rates “Up To” Tariff, FERC Electric Tariff No. 1.

DeSoto requests an effective date of May 20, 2002 for this Service Agreement. Copies of the filing were served upon the North Carolina Utilities Commission, the South Carolina Public Service Commission, the Florida Public Service Commission and the Georgia Public Service Commission.

Comment Date: July 5, 2002.

19. Central Hudson Gas & Electric Corporation

[Docket No. ER02-2099-000]

Take notice that on June 14, 2002, Central Hudson Gas & Electric Corporation (Central Hudson) tendered for filing proposed changes in its Rate Schedule FERC No. 202 which sets forth the terms and charges for substation service provided by Central Hudson to Consolidated Edison Company of New York, Inc.

Central Hudson requests waiver on the notice requirements set forth in 18 CFR 35.11 of the Regulations to permit charges to become effective January 1, 2002 as agreed to by the parties.

Central Hudson states that a copy of its filing was served on Con Edison and the State of New York Public Service Commission.

Comment Date: July 5, 2002.

20. PJM Interconnection, L.L.C.

[Docket No. ER02-2100-000]

Take notice that on June 14, 2002, PJM Interconnection L.L.C. (PJM), tendered for filing two executed umbrella service agreements for firm point-to-point transmission service and non-firm point-to-point transmission service with UBS AG, acting through its London Branch and care of UBS Warburg Energy, LLC (UBS AG).

PJM requested a waiver of the Commission's notice regulations to permit effective date of May 15m 2002 for the agreements, the date that the agreements were executed.

Copies of this filing were served upon UBS AG, as well as the state utility regulatory commissions within the PJM region.

Comment Date: July 5, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-16148 Filed 6-25-02; 8:45 am]

BILLING CODE 6717-01-P